ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC from Monday through Wednesday, November 7-9, 2005, at the times and location noted below.

DATES: The schedule of events is as follows:

Monday, November 7, 2005

10:30 a.m.-Noon—Committee of the Whole on Board Expenditures (Closed Session)

1:30-3:30 p.m.—Ad Hoc Committee on Bylaws (Closed Session)

3:30-5—Ad Hoc Committee on Public Rights-of-Way (Closed Session)

Tuesday, November 8, 2005

9 a.m.-—Noon Ad Hoc Committee on Bylaws (Closed Session)

1:30-4 p.m.—Committee of the Whole on Rulemaking Plan (Closed Session)

4-5—Ad Hoc Committee on Passenger Vessels (Closed Session)

Wednesday, November 9, 2005

9-10:30 a.m.—Technical Programs Committee

10:30-Noon—Planning and Budget Committee

1:30-3 p.m.—Board Meeting

ADDRESSES: On Monday and Tuesday, November 7-8, 2005, the meetings will be held at the Marriott at Metro Center Hotel, 775 12th Street, NW., Washington, DC 20005. On Wednesday, November 9, 2005, the meetings will be held at the Hamilton Crowne Plaza Hotel, 1001 14th Street, NW., Washington, DC 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the May 11, 2005 Board Meeting Minutes.

• Ad Hoc Committee on Bylaws Report.

• Ad Hoc Committee on Public Rights-of-Way Report.

• Committee of the Whole on Rulemaking Report.

• Ad Hoc Committee on Passenger Vessels Report.

• Technical Programs Committee Report.

• Planning and Budget Committee Report.

All meetings are accessible to persons with disabilities. An assistive listening system will be available at the Board meetings. Members of the general public who require sign language interpreters must contact the Access Board by November 4, 2005. Persons attending Board meetings are requested to refrain from using perfume, cologne, and other fragrances for the comfort of other participants.

Lawrence W. Roffee,
Executive Director.

[FR Doc. 05-21905 Filed 11-2-05; 8:45 am]

BILLING CODE 8150-01-P